DEPARTMENT OF HEALTH AND HUMAN SERVICES

Health Resources and Services Administration

Advisory Council; Notice of Meeting

In accordance with section 10(a)(2) of the Federal Advisory Committee Act (Public Law 92-463), announcement is made of the following National Advisory body scheduled to meet during the month of March 2001:

Name: National Advisory Council on Migrant Health.

Date and Time: March 23, 2001; 9 a.m. to 5 p.m.; March 24, 2001; 9 a.m. to 5 p.m.

Place: Hilton Washington and Towers Hotel, 1919 Connecticut Avenue, NW., Washington, DC 20009, Phone: (202) 483-3000; Fax (202) 232-0428.

The meeting is open to the public.

Agenda: This will be a meeting of the Council. The agenda includes an overview of general Council business activities and priorities. Topics of discussion will include development of the Year 2001 recommendations and background statements, as well as Committee mission statements and action plans. In addition, the Council will explore Area Health Education Centers and opportunities for collaboration with Migrant Health, and will receive updates from a variety of Migrant Health advocacy organizations. Finally, the Council will be reviewing nominations for Council membership for terms beginning November 2001.

Anyone requiring information regarding the subject Council should contact Judy Rodgers, Migrant Health Program, staff support to the National Advisory Council on Migrant Health, Bureau of Primary Health Care, Health Resources and Services Administration, 4350 East West-Highway, Bethesda, Maryland 20814, Telephone (301) 594-4304.

Agenda items are subject to change as priorities indicate.

Dated: March 7, 2001.
James J. Corrigan,
Associate Administrator for Management and Program Support.

[FR Doc. 01-6114 Filed 3-9-01; 8:45 am]

BILLING CODE 4160-15-P